DEPARTMENT OF LABOR

Employment and Training Administration

[TA-W-61,962K and TA-W-61,962L]

Hanesbrands, Inc., National Textiles, LLC, Eden Division, Eden, North Carolina, and Forest City Division, Forest City, North Carolina; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility To Apply for Worker Adjustment Assistance and Alternative Trade Adjustment Assistance on September 13, 2007, applicable to workers of Hanesbrands, Inc., Eden, North Carolina and Hanesbrands, Inc., Forest City Division, Forest City, North Carolina. The notice was published in the Federal Register on September 27, 2007 (72 FR 54939).

At the request of the State agency, the Department reviewed the certification for workers of the subject firm. The workers were engaged in the production of laminated fabric and fabric components.

New information shows that Hanesbrands, Inc. purchased National Textiles, LLC in June 2006. Workers separated from employment at the Eden Division, Eden, North Carolina and the Forest City Division, Forest City, North Carolina locations of the subject firm had their wages reported under separate unemployment insurance (UI) tax account for National Textiles, LLC.

Findings also show that there was a previous certification, TA-W-55,365, issued on September 13, 2006, for the workers of the Forest City Division, Forest City, North Carolina. That certification expired September 13, 2006. To avoid an overlap in worker group coverage for workers of the Forest City, North Carolina location, the certification is being amended to change the impact date from August 7, 2006 to September 14, 2006.

Accordingly, the Department is amending the certification to properly reflect these matters.

The intent of the Department's certification is to include all workers of Hanesbrands, Inc. who were adversely affected by a shift in production of laminated fabric and fabric components to El Salvador, the Dominican Republic and Honduras.

The amended notice applicable to TA-W-61,962K and TA-W-61,962L are hereby issued as follows:

“All workers of Hanesbrands, Inc., National Textiles, LLC, Eden Division, Eden, North Carolina (TA-W-61,962K), who became totally or partially separated from employment on or after August 7, 2006 through September 13, 2009, are eligible to apply for adjustment assistance under section 223 of the Trade Act of 1974, and are also eligible to apply for alternative trade adjustment assistance under Section 246 of the Trade Act of 1974;” and

“All workers of Hanesbrands, Inc., National Textiles, LLC, Forest City Division, Forest City, North Carolina (TA-W-61,962L), who became totally or partially separated from employment on or after September 14, 2006, through September 13, 2009, are eligible to apply for adjustment assistance under section 223 of the Trade Act of 1974, and are also eligible to apply for alternative trade adjustment assistance under section 246 of the Trade Act of 1974.”

Signed at Washington, DC, this 11th day of December 2007.
Linda G. Poole,
Certifying Officer, Division of Trade Adjustment Assistance.

[FR Doc. E7-24542 Filed 12-18-07; 8:45 am]

BILLING CODE 4510-FN-P